DEPARTMENT OF ENERGY

[Docket No. EA-236]

Application to Export Electric Energy; American Electric Power Service Corporation

AGENCY: Office of Fossil Energy, DOE.

ACTION: Notice of Application.

SUMMARY: American Electric Power Service Corporation (AEPSC), on behalf of its public utility operating companies, has applied for authority to transmit electric energy from the United States to Mexico pursuant to section 202(e) of the Federal Power Act.

DATES: Comments, protests or requests to intervene must be submitted on or before May 18, 2001.

ADDRESSES: Comments, protests or requests to intervene should be addressed as follows: Office of Coal & Power Im/Ex (FE-27), Office of Fossil Energy, U.S. Department of Energy, 1000 Independence Avenue, SW, Washington, DC 20585-0350 (FAX 202-287-5736).

FOR FURTHER INFORMATION CONTACT: Xavier Puslowski (Program Office) 202-586-4708 or Michael Skinker (Program Attorney) 202-586-6667.

SUPPLEMENTARY INFORMATION: Exports of electricity from the United States to a foreign country are regulated and require authorization under section 202(e) of the Federal Power Act (FPA) (16 U.S.C. 824a(e)).

On April 5, 2001, the Office of Fossil Energy (FE) of the Department of Energy (DOE) received an application from AEPSC to transmit electric energy from the United States to Mexico. This application was filed by AEPSC on behalf of its public utility affiliates, namely: Appalachian Power Company; Central Power & Light Company; Columbus Southern Power Company; Indiana Michigan Power Company; Kentucky Power Company; Ohio Power Company; Public Service Company of Oklahoma; Southwestern Electric Power Company; and West Texas Utilities Company (collectively, the “AEP Operating Companies” or the “Applicants”). AEPSC is incorporated under the laws of the State of New York and has its principal place of business in Columbus, Ohio. The electric energy which the applicants propose to export to Mexico would be from either surplus generation of the AEP Operating Companies or from purchases on the wholesale market.

The applicants propose to arrange for the delivery of electric energy to Mexico over the international transmission facilities owned by San Diego Gas & Electric Company, El Paso Electric Company, Central Power and Light Company, and Comision Federal de Electricidad, the national electric utility of Mexico. The construction of each of the international transmission facilities to be utilized by the applicants, as more fully described in the application, has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the AEPSC application to export electric energy to Mexico should be clearly marked with Docket EA-236. Additional copies are to be filed directly with F. Mitchell Dutton, Esq. American Electric Power Service Corporation, 1 Riverside Plaza, 15th Floor, Columbus, Ohio 43215-2373 and John R. Lilyestrom, Esq., Hogan & Hartson, LLP, 555 13th Street, NW, Washington, DC 20004.

A final decision will be made on this application after the environmental impacts have been evaluated pursuant to the National Environmental Policy Act of 1969 (NEPA), and a determination is made by the DOE that the proposed action will not adversely impact on the reliability of the U.S. electric power supply system.

Copies of this application will be made available, upon request, for public inspection and copying at the address provided above or by accessing the Fossil Energy Home page at http://www.fe.doe.gov. Upon reaching the Fossil Energy Home page, select “Regulatory Programs,” then “Electricity Regulation,” and then “Pending Proceedings” from the options menus.

Issued in Washington, DC, on April 11, 2001.
Anthony J. Como,
Deputy Director, Electric Power Regulation, Office of Coal & Power Im/Ex, Office of Coal & Power Systems, Office of Fossil Energy.

[FR Doc. 01-9580 Filed 4-17-01; 8:45 am]

BILLING CODE 6450-01-P